COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from the Procurement List.

SUMMARY: The Committee is proposing to add products and services to the Procurement List that will be furnished by nonprofit agencies employing persons who are blind or have other severe disabilities and deletes products previously furnished by such agencies.

DATES: Comments Must Be Received On or Before: 1/7/2013.

ADDRESSES: Committee for Purchase From People Who Are Blind or Severely Disabled, Jefferson Plaza 2, Suite 10800, 1421 Jefferson Davis Highway, Arlington, Virginia 22202-3259.

For Further Information or To Submit Comments Contact: Patricia Briscoe, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

The following products and services are proposed for addition to Procurement List for production by the nonprofit agencies listed:

Products

Products

NSN: 7510-00-NIB-0889—Protector, Document, 7-hole, Medium Weight, Clear, 8½″ × 11″

NSN: 7510-00-NIB-1882—Folders, Project, 8½″ × 11″, Clear

NPA: L.C. Industries for the Blind, Inc., Durham, NC

Contracting Activity: General Services Administration, New York, NY

Coverage: A-List for the Total Government Requirement as aggregated by the General Services Administration.

Floor Mat, Anti-Fatigue, Ribbed Vinyl

NSN: 7220-00-NIB-0440—2′ × 3′, Black

NSN: 7220-00-NIB-0441—3′ × 5′, Black

NPA: Wiscraft, Inc., Milwaukee, WI

Contracting Activity: General Services Administration, Fort Worth, TX

Coverage: A-List for the Total Government Requirement as aggregated by the General Services Administration.

Group 1 and 2 Spices

NSN: 8950-01-E60-7765—Black Pepper, Ground Gourmet, 1.5 oz

NSN: 8950-01-E60-7766—Black Pepper, Ground, Gourment, 16 oz, can

NSN: 8950-01-E60-7767—Black Pepper, Ground, Gourmet, 16 oz

NSN: 8950-01-E60-7768—Black Pepper, Ground, Gourment, 18 oz, can

NSN: 8950-01-E60-7769—Black Pepper, Ground, Gourmet, 18 oz

NSN: 8950-01-E60-7770—Black Pepper, Ground Gourmet, 5 lb

NSN: 8950-01-E60-8234—Black Pepper, Cracked, 18 oz metal can

NSN: 8950-01-E60-8235—Black Pepper, Cracked, 18 oz

NSN: 8950-01-E60-8236—Black Pepper, Cracked, 16 oz metal can

NSN: 8950-01-E60-8237—Black Pepper, Cracked, 16 oz

NSN: 8950-01-E60-8238—Black Pepper, Whole, 16 oz metal can

NSN: 8950-01-E60-8239—Black Pepper, Whole, 16 oz

NSN: 8950-01-E60-8240—Black Pepper, Whole, 18 oz metal can

NSN: 8950-01-E60-8241—Black Pepper, Whole, 18 oz

NSN: 8950-01-E60-5749—Paprika, 16 oz

NSN: 8950-01-E60-5751—Garlic Powder, 16 oz

NSN: 8950-01-E60-5752—Garlic Powder, 6 lbs

NSN: 8950-01-E60-5753—Garlic, Granulated, 25 oz

NSN: 8950-01-E60-5754—Garlic, Granulated, 12 oz

NSN: 8950-01-E60-0102—Seasoning, Taco, 24 oz

NSN: 8950-01-E60-9152—Ginger, Ground, 16 oz

NSN: 8950-01-E60-9155—Pepper, Cayenne, 14 oz

NSN: 8950-01-E61-0099—Seasoning, Taco, 9 oz

NSN: 8950-01-E61-0100—Seasoning, Taco, 11 oz

NSN: 8950-01-E61-0101—Seasoning, Taco, 23 oz

NSN: 8950-01-E61-0103—Steak Seasoning, Canadian Style, 29 oz

NSN: 8950-01-E61-0104—Ginger, Ground, 14 oz

NSN: 8950-01-E61-0105—Ginger, Ground, 15 oz

NSN: 8950-01-E61-0106—Pepper, Cayenne, 1.5 oz

NSN: 8950-01-E61-0107—Pepper, Cayenne, 16 oz

NSN: 8950-01-E61-0108—Pepper, Red, Ground, 16 oz

NSN: 8950-01-E60-9147—Pepper, Lemon, Seasoning, 28 oz

NSN: 8950-01-E60-9150—Cinnamon, Ground, 16 oz

NSN: 8950-01-E60-9456—All Purpose Seasoning w/o Salt, 2.5 oz

NSN: 8950-01-E60-9457—All Purpose Seasoning w/o Salt, 6.75 oz

NSN: 8950-01-E60-9458—All Purpose Seasoning w/o Salt, 10 oz

NSN: 8950-01-E60-9459—All Purpose Seasoning w/o Salt, 20 oz

NSN: 8950-01-E60-9460—All Purpose Seasoning w/o Salt, 28 oz

NSN: 8950-01-E60-9461—Chili Powder, Dark, 16 oz

NSN: 8950-01-E60-9462—Chili Powder, Light 17 oz

NSN: 8950-01-E60-9463—Chili Powder, Light, 18 oz

NSN: 8950-01-E60-9464—Chili Powder, Dark, 20 oz

NSN: 8950-01-E60-9465—Chili Powder, Light, 5 lb

NSN: 8950-01-E60-9466—Pepper, Lemon, Seasoning, 26 oz

NSN: 8950-01-E60-9467—Pepper, Lemon, Seasoning, 27 oz

NSN: 8950-01-E60-9468—Cinnamon Maple Seasoning, 30 oz

NSN: 8950-01-E60-9469—Cinnamon, Ground, 15 oz

NSN: 8950-01-E60-9470—Cinnamon, Ground, 18 oz

NSN: 8950-01-E60-9471—Cinnamon, Ground, 5 lbs

NSN: 8950-01-E60-9472—Cinnamon Sticks, 2¾″ in length, 8 oz

NPA: CDS Monarch, Rochester, NY

Contracting Activity: Department of Veterans Affairs, NAC, Hines, IL

Coverage: C-List for 100% of the requirement of the Department of Veteran's Affairs as aggregated by the Department of Veterans Affairs National Acquisition Center, Hines, IL.

Services

Service Type/Location: Custodial Service, Social Security Administration (SSA), West High Rise and West Low Rise Buildings, 6401 Security Blvd., Baltimore, MD

NPA: Goodwill Industries of the Chesapeake, Inc., Baltimore, MD

Contracting Activity: Social Security Administration, HDQTRS—Office of Acquisition & Grants, Baltimore, MD

Service Type/Location: Grounds Maintenance, National Plant Germplasm Quarantine Center, Building 580, Powder Mill Road, Beltsville, MD

NPA: NW Works, Inc., Winchester, VA

Contracting Activity: Dept of Agriculture, Animal and Plant HLTH INSP SVC, Minneapolis, MN

Service Type/Locations: Secure Document Destruction, Internal Revenue Service, IRS Office: 5000 Corporate Drive, Holtsville, NY, IRS Office: 1 Corporate Drive, Holtsville, NY

NPAs: NISH, Vienna, VA (Prime Contractor) NYSARC, Inc., NYC Chapter, New York, NY (Subcontractor)

Contracting Activity: Dept of Treasury, Internal Revenue Service, Washington, DC

Deletions

The following products are proposed for deletion from the Procurement List:

Products

Pad, Writing Paper (Easel)

NSN: 7530-00-NIB-0306.

Contracting Activity: General Services Administration, New York, NY

Nonfat Dry Milk

NSN: 8910-00-NSH-0001

NPAs: CW Resources, Inc., New Britain, CT, Transylvania Vocational Services, Inc., Brevard, NC, Knox County Association for Retarded Citizens, Inc., Vincennes, IN

Contracting Activity: Dept of Agriculture, Foreign Service Operations International Services Division, Washington, DC

Cloth, Abrasive

NSN: 5350-00-187-6275—Aluminum-oxide, 50 Grit, Drill Back, Grey, 50 Yard, 1″

NSN: 5350-00-187-6297—Aluminum-oxide, 50 Grit, Drill Back, Grey, 50 Yard, 2″

NSN: Louisiana Association for the Blind, Shreveport, LA

Contracting Activity: General Services Administration, Fort Worth, TX

Patricia Briscoe,
Deputy Director, Business Operations, (Pricing and Information Management).

[FR Doc. 2012-29604 Filed 12-6-12; 8:45 am]

BILLING CODE 6353-01-P